DEPARTMENT OF HEALTH AND HUMAN SERVICES

National Institutes of Health

Center For Scientific Review; Amended Notice of Meeting

Notice is hereby given of a change in the meeting of the Center for Scientific Review Special Emphasis Panel, January 23, 2014, 09:00 a.m. to January 24, 2015, 04:00 p.m., National Institutes of Health, 6701 Rockledge Drive, Bethesda, MD, 20892 which was published in the Federal Register on December 23, 2013, 78 FR 77474.

The meeting will be held on January 23, 2014 to January 24, 2014. The meeting location and time remain the same. The meeting is closed to the public.

Dated: January 16, 2014.
Carolyn A. Baum,
Program Analyst, Office of Federal Advisory Committee Policy.

[FR Doc. 2014-01190 Filed 1-22-14; 8:45 am]

BILLING CODE 4140-01-P